DEPARTMENT OF HOUSING AND URBAN DEVELOPMENT

[Docket No. FR-7092-N-21]

Privacy Act of 1974; System of Records

AGENCY: Office of Housing, Single Family Insurance Operations Division, HUD.

ACTION: Notice of a modified system of records.

SUMMARY: Pursuant to the provisions of the Privacy Act of 1974, as amended, the Department of Housing and Urban Development (HUD), Office of Housing, Single Family Operations Division is modifying a system of records titled “Distributive Shares and Refund Subsystem (DSRS)”. The DSRS serves as the Federal Housing Administration (FHA) repository for verifying mortgage insurance premium refunds and distributive share payments which are issued to eligible homeowners (mortgagors) who had an FHA mortgage insured loan. This system of records is being revised to make clarifying changes within: Authority for Maintenance of the System, System Location, Purpose of the System, Categories of Individuals Covered by the System, Categories of Records in the System, Records Source Category, Routine Uses of Records Maintained, Retention and Disposal of Records, Record Access Procedures, Contesting Record Procedures, and Notification Procedures. The modifications are outlined in the SUPPLEMENTARY INFORMATION section.

DATES: Comments will be accepted on or before March 18, 2024. The SORN becomes effective immediately, while the routine uses become effective after the comment period immediately upon publication except for the routine uses, which will become effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD, Single Family Insurance Operations Division (SFIOD), maintains the DSRS system. HUD is publishing this revised notice to reflect modifications to routine uses, and the system authorities. In accordance with the DSRS system of records, the SFIOD will implement a new Part B Online Application to provide homeowners with a convenient method to submit applications online. Additionally, administrative updates are being added to the remaining SORN sections to reflect the system in its current state. The modification of the system of records will have no undue impact on the privacy of individuals and updates are consistent with the records collected.

The following are updates since the previous SORN publication:

• Purpose of the System: Added information pertaining to the new Part B Online Application to facilitate same-day request, homeowner application submission, and refund disbursement.

• Record Source Category: Added existing sources information for U.S Department of Treasury, and New Part B Online Application web page.

• Authority for Maintenance of the System: Updated with existing authorities that permit the maintenance of the system's records by clarifying citations, correcting errors, and including relevant citations to the Code of Federal Register. Statutes and regulations are listed below.

• Categories of Records in the System: Updated the section with clarifying details and incorporated the Individual Tax Identification Number (ITIN), and related documents for certain non-residents and residents' aliens, spouses and dependents from other countries who do not have SSNs. The records are captured by records under “Identification and Verification” documents.

• Routine Use of Records in System: HUD will make modified disclosures from this system of records to authorized agencies and participants as described below. These modifications will enable HUD to issue payments and refunds and continue to test new technology. Additionally, the organization of the routine use section has changed from letters to numbers.

• Modified routine use (9)—(Changed from I) to refine and limit the scope of records shared for testing new technology to enhance program technology and services. This modification limits the scope of the prior record sharing activities.

• Modified routine use (6)—(Changed from F) to explain each Treasury disclosure type, the Treasury organization (The Bureau of the Fiscal Service), and additional details under Treasury collection services.

• Records Retention and Disposition: Updated this section by clarifying the general records schedules (GRS) by GRS Item Numbers, rather than down to the program level. Additionally, new GRS have been incorporated into the process.

SYSTEM NAME AND NUMBER:

Distributive Shares and Refund Subsystem (DSRS) HUD/HOU-03.

SECURITY CLASSIFICATION:

Unclassified.

SYSTEM LOCATION:

National Center for Critical Information Processing and Storage, located in Mississippi and Virginia; the HUD Headquarter Building at 451 Seventh Street SW, Room 3238, Washington DC 20410-1000; Pyramid Systems at 2677 Prosperity Avenue, Fairfax Virginia 22031; M&M IT Solutions at 11750 Beltsville Drive, Beltsville MD, 20705-3194; Falon Sourcing Solutions at 9028 Prince William Street, Manassas, Virginia 20110-5664.

SYSTEM MANAGER(S):

Silas Vaughn, System Manager, Single Family Insurance Operations Division, Department of Housing and Urban Development, 451 Seventh Street SW, Second floor, Washington, DC 20410-0001; telephone number, 202-708-2438.

AUTHORITY FOR MAINTENANCE OF THE SYSTEM:

Section 203(a) of the National Housing Act of 1934 (12 U.S.C. 1709(a)); 24 CFR 203.35. Section 7(d) of the Department of Housing and Urban Development Act of 1965 (42 U.S.C. 3535(d)); 24 CFR 5.210; 24 CFR 200.1101. The Housing Community Development Act of 1987, 42 U.S.C. 3543(a). Section 4 of the Debt Collection Act of 1982, 31 U.S.C. 7701(b). Section 31001 of the Debt Collection Improvement Act of 1996, 31 U.S.C. 3711(g)(9). FHA Single Family Housing Policy Handbook 4000.1.

PURPOSES OF THE SYSTEM:

Distributive Shares and Refund Subsystem (DSRS) maintains detailed records for single family non-claim terminated case activities to ensure that the proper homeowner associated with the FHA guaranteed loan is identified. Upon non-claim termination (i.e., prepayment, assignment, assumption, or refinance), the borrower may be eligible for a refund of any unearned upfront mortgage insurance premium (UFMIP) paid at closing or a distributive share payment. The “Does HUD Owe You a Refund? ” website is used in conjunction with DSRS to allow homeowners to determine if they are eligible for an upfront mortgage insurance premium refund or distributive share payment. In addition, DSRS utilizes the Premium Refund Application Upload web page component to provide another option for homeowners to securely send the required documents to HUD to complete the homeowner refund process, and the Part B Online Application web page to support homeowners in securely submitting the application online, with the aim of enhancing HUD's responsiveness (Under Review). SFIOD staff can request disbursement of lender and homeowner refunds due, and DSRS will certify that the requests are valid.

CATEGORIES OF INDIVIDUALS COVERED BY THE SYSTEM:

(1) Homeowners (Mortgagors) who had Federal Housing Administration (FHA) mortgage insured loans and may be eligible for a mortgage insurance premium refund or distributive share payment; (2) FHA approved Business Partners and Third-Party Representatives who are sources of mortgagor information, (3) Non-residents and residents' aliens, and dependents from other countries and (4) DSRS personnel (HUD users and authorized contractors) responsible for refund and share functions.

CATEGORIES OF RECORDS IN THE SYSTEM:

Name (Individual/Business), Social Security Number (SSN), Date of Birth, Phone Number, Address (Individual/Business), Email Address, and User ID, Related Premium Refund/Payment Correspondence (borrower name, address, email address, phone and fax number), including the homeowner representative and lender information, and Supporting Documentation (borrower identification and verification document copies): Birth, Death, Marriage, Religion, Civil Union, Naturalization, Citizenship Certificate, US Passport or Passport Card, Green Card, Change-of-Address (form CNL107 provided as proof), Driver's license, Dependent, Military, State, Federal ID with photo, or similar identification, Bank, Motor Vehicle, Mortgage, Credit Card, Tax, Utility, Doctor, Hospital Company Bill, Medicaid, Medicare Statement, Social Security Administration, Pension, Retirement Benefit Statement, Veteran Discharge or Separation Papers, Medical Card, W-2, 1099, DD-214 form (for SSN verification purposes), Pay Statement, Vehicle, Voters Registration, Legal documents (mortgage, deed, will, loan, rental contracts and statements, gender, name change) or similar document. Information on Supporting documents may include State were issued, SSN, Birthdate, Gender, Sex, Affiliation, Marital, Financial, Retirement, Pay, Employment, Medical, Account Number, Individual Tax Identification Number (ITIN), Employer Identification Number and related documents (IRS 147C EIN letter, IRS Payment coupon, IRS EIN Issuance Notice).

RECORD SOURCE CATEGORIES:

Homeowners, HUD employees and contractors, third party businesses, and authorized representatives of the homeowners that complete the form application for premium refund. Internal and External data exchanges from the following systems:

• Housing Office of Finance and Budget.

Single Family Insurance System (SFIS).

The Does HUD Owe You a Refund? ” website.

Premium Refund Application Upload web page.

The Part B Online Application web page.

Automated Mailing System Generation.

• Office of the Chief Information Officer.

Digital Identity and Access Management System (DIAMS).

• The Department of the Treasury, Bureau of the Fiscal Services.

ROUTINE USES OF RECORDS MAINTAINED IN THE SYSTEM, INCLUDING CATEGORIES OF USERS AND PURPOSES OF SUCH USES:

(1) To the National Archives and Records Administration, Office of Government Information Services (OGIS), to the extent necessary to fulfill its responsibilities in 5 U.S.C. 552(h), to review administrative agency policies, procedures, and compliance with the Freedom of Information Act (FOIA), and to facilitate OGIS's offering of mediation service to resolve disputes between persons making FOIA requests and administrative agencies.

(2) To a congressional office from the record of an individual, in response to an inquiry from the congressional office made at the request of that individual.

(3) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(4) To contractors, grantees, experts, consultants and their agents, or others performing or working under a contract, service, grant, or cooperative agreement with HUD, when necessary to accomplish an agency function related to a system of records. Disclosure requirements are limited to only those data elements considered relevant to accomplishing an agency function.

(5) To authorized requesters or third-party tracers who request access to Upfront Mortgage Insurance Premiums homeowner refund and distributive share payment information, when such information is unavailable on HUD's FOIA reading room or Does HUD Owe You a Refund? websites. This information is releasable under FOIA. Third party release of this material may require authorized consent of the homeowner to whom the records belong and must adhere to all HUD procedures prior to release.

(6) To the U.S. Department of the Treasury for disbursement, refund, and collection transactions:

(a) For upfront and monthly mortgage insurance premiums lender refunds; homeowner refunds; and distributive shares payments.

(b) For facilitating Treasury Administrative Offset (Debt Collection): Offsets Federal tax refund payments and non-tax payments certified for disbursement to the debtor to recover a delinquent debt; and Cross-servicing (Debt Collection): pursues recovery of delinquent debts on behalf of Federal agencies using debt collection tools authorized by statute, such as private collection agencies, administrative wage garnishment, or public dissemination of an individual's delinquent indebtedness; or any other legitimate debt collection purpose.

(7) To the general public when, after two-years of attempting to contact each unpaid mortgagor of their FHA insurance refund, the Department makes available a cumulative listing by state of any unpaid refund that remains unpaid. The information includes mortgagor full name(s), property address, insurance refund or share amount, insurance cancellation date and refund date, and loans FHA Case Number. This information is available to the public on HUD's refund database “Does HUD Owe You A Refund? ”. Individuals who search the database using an FHA Case Number or the name of the mortgagor can access this information before the two years of attempted contact has passed.

(8) To the recorders' offices for recording legal documents and responses to offsets (i.e., child support) or other legal responses required during the servicing of the insured loan to allow HUD to release mortgage liens and respond to bankruptcies or deaths of mortgagors to protect the interest of the Secretary of HUD.

(9) To contractors, experts and consultants with whom HUD has a contract, service agreement, or other assignment of the Department, when necessary to utilize relevant data for the purpose of testing new technology and systems designed to enhance program operations and performance.

(10) To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(11) To appropriate agencies, entities, and persons when: (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

(12) To appropriate Federal, State, local, tribal, or governmental agencies or multilateral governmental organizations responsible for investigating or prosecuting the violations of, or for enforcing or implementing, a statute, rule, regulation, order, or license, where HUD determines that the information would assist in the enforcement of civil or criminal laws, when such records, either alone or in conjunction with other information, indicate a violation or potential violation of law.

(13) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(14) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Paper and electronic.

POLICIES AND PRACTICES FOR RETRIEVAL OF RECORDS:

Name, SSN, and Property Address.

POLICIES AND PRACTICIES FOR RETENTION AND DISPOSAL OF RECORDS:

General records are maintained for periods of Disposition is Temporary—1-6 years unless a longer retention period is deemed necessary for investigative purposes or business use. If necessary, Paper records are either burned or shredded, and electronic and media records are erased.

ADMINISTRATIVE, TECHNICAL, AND PHYSICAL SAFEGUARDS:

Administrative Controls: Backups Secured Off-Site, Methods to Ensure Only Authorized Personnel Access to PII, Periodic Security Audits, and Regular Monitoring of User's Security Practices.

Technical Controls: Encryption of Data at Rest, Firewall, Role-Based Access Controls, Virtual Private Network (VPN), Encryption of Data in Transit, Least Privilege Access, User Identification and Password, PIV Card, Intrusion Detection System (IDS).

Physical Safeguards: Combination locks, Key Cards, Security Guards, Identification badges, and all paper records that contain PII and sensitive information are locked in file rooms.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for accessing, contesting, and appealing agency determinations by the individual concerned are published in 24 CFR part 16.8.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR part 16.

EXEMPTIONS PROMULGATED FOR THE SYSTEM:

None.

HISTORY:

Docket No. 87 FR 61618 (October 12, 2022), 81 FR 22292 (April 15, 2016), and 72 FR 40890 (July 25, 2007).

Ladonne White,
Chief Privacy Officer, Office of Administration.

[FR Doc. 2024-03313 Filed 2-15-24; 8:45 am]

BILLING CODE 4210-67-P